ENVIRONMENTAL PROTECTION AGENCY

40 CFR Part 63

[EPA-HQ-OAR-2002-0009; FRL-8256-2]

RIN 2060-AK22

National Air Emission Standards for Hazardous Air Pollutants, Halogenated Solvent Cleaning: Notice of Data Availability

AGENCY: Environmental Protection Agency (EPA).

ACTION: Notice of data availability.

SUMMARY: EPA is issuing this Notice of Data Availability (NODA) in support of the proposed rule issued August 17, 2006, entitled “National Emission Standards for Hazardous Air Pollutants—Halogenated Solvent Cleaning”. EPA received a number of comments on the proposed rule and is in the process of evaluating those comments. This NODA addresses certain new data and information that EPA received concerning the unique nature and size of the degreasing machines used by the following facilities: narrow tubing manufacturing facilities, facilities that manufacture specialized products requiring continuous web cleaning, aerospace manufacturing and maintenance facilities, large military vehicle maintenance operations, and facilities that use multiple degreasing machines. Specifically, the new data and information that form the basis of this NODA relates to the following three issues; the ability of the above-noted facilities meeting the proposed facility-wide emission limits; the cost impacts associated with the above-noted facilities implementing the proposed facility-wide emission limits; and, the time frame needed for the above-noted facilities to comply with the proposed facility-wide emission limits.

Although we recognize that the public has access to comments submitted during the comment period, we are nonetheless issuing this NODA because the new data and information at issue in this NODA are directly relevant to the alternative proposed standards described in the proposed rule. We are seeking comment only on the three issues identified above that relate to the unique nature and size of the degreasing machines used by the facilities specified above. We do not intend to respond to comments addressing any other aspect of the proposed rule.

DATES: Comments on the NODA must be received on or before January 29, 2007.

ADDRESSES: Comments on the NODA should be submitted to Docket ID No. EPA-HQ-OAR-2002-0009. Comments may be submitted by one of the following methods: Federal eRulemaking Portal: http://http://www.regulations.gov. Follow the on-line instructions for submitting comments.

Agency Web site: http://www.epa.gov/edocket. EDOCKET, EPA's electronic public docket and comment system is EPA's preferred method for receiving comments. Follow the on-line instructions for submitting comments.

E-mail: A-and-R-Docket@epa.gov.

Mail: Air Docket, National Emission Standards for Hazardous Air Pollutants—Halogenated Solvent Cleaning, Environmental Protection Agency, Mail Code: 6102T, 1200 Pennsylvania Avenue, NW., Washington, DC 20460. Please include a total of two copies.

Hand Delivery: EPA Docket Center, 1301 Constitution Avenue, NW., Room B108, Washington, DC. Such deliveries are only accepted during the Docket's normal hours of operation, and special arrangements should be made for deliveries of boxed information.

Note: The EPA Docket Center suffered damage due to the flooding during the last week of June 2006. The Docket Center is continuing to operate. During the cleanup, however, there will be temporary changes to Docket Center telephone numbers, addresses, and hours of operation for people who wish to make hand deliveries or visit the Public Reading Room to view documents. Consult the EPA Web site at http://www.epa.gov/eaphome/dockets.htm for current information on docket operations, locations and telephone numbers. The Docket Center's mailing address for U.S. mail and the procedure for submitting comments to www.regulations.gov are not affected by the flooding and will remain the same.

Instructions: Direct your comments on the NODA to Docket ID No. EPA-HQ-OAR-2002-0009. The EPA's policy is that all comments received will be included in the public docket(s) without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the Federal regulations.gov Web sites are “anonymous access” systems, which means EPA will not know your identity or contact information unless you provide it in the body of your comment. If you send an e-mail comment directly to EPA without going through EDOCKET or regulations.gov, your E-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the EDOCKET index at http://www.epa.gov/edocket. Although listed in the index, some information is not publicly available (i.e., CBI or other information whose disclosure is restricted by statute). Certain other material, such as copyrighted material, is not placed on the Internet and will be publicly available only in hard copy form. Publicly available docket materials are available either electronically in EDOCKET or in hard copy at the EPA Docket Center, EPA West, Room B102, 1301 Constitution Avenue, NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: H. Lynn Dail, U.S. EPA, Office of Air Quality Planning and Standards, Sector Policies and Planning Division, Natural Resources and Commerce Group (E143-03), Research Triangle Park, North Carolina 27711, telephone number (919) 541-2363, e-mail at dail.lynn@epa.gov.

SUPPLEMENTARY INFORMATION: The information presented in this NODA is organized as follows:

I. Additional Information on Submitting Comments

A. How Can I Help EPA Ensure That My Comments Are Reviewed Quickly?

B. What Should I Consider as I Prepare My Comments for EPA?

1. Submitting CBI

2. Tips for Preparing Your Comments

II. Why Is EPA Issuing This NODA and What Are the Issues on Which EPA Is Soliciting Comment?

III. Proposed Emission Limit Options

A. What Are the Proposed Emissions Limits?

B. What Is the New Information or Data That EPA Is Making Available for Review and Comment?

C. What Additional Supporting Data or Documentation Do I Need To Provide With My Comments?

IV. EPA's Proposed Cost Assessment

A. What Are the Estimated Compliance Costs?

B. What Is the New Information EPA Is Making Available for Review and Comment?

C. What Additional Supporting Data or Documentation Do I Need To Provide With My Comments?

V. EPA's Proposed Compliance Schedule

A. What Is the Proposed Compliance Schedule?

B. What Is the New Information EPA Is Making Available for Review and Comment?

C. What Additional Supporting Data or Documentation Do I Need To Provide With My Comments?

I. Additional Information on Submitting Comments

A. How Can I Help EPA Ensure That My Comments Are Reviewed Quickly?

To expedite review of your comments by Agency staff, you are encouraged to send a separate copy of your comments, in addition to the copy you submit to the official docket, to H. Lynn Dail, U.S. EPA, Office of Air Quality Planning and Standards, Natural Resources and Commerce Group, Mail Code E143-03, Research Triangle Park, North Carolina 27711, telephone (919) 541-2363, e-mail dail.lynn@epa.gov.

B. What Should I Consider as I Prepare My Comments for EPA?

1. Submitting CBI. Do not submit CBI information to EPA through EDOCKET, regulations.gov, or e-mail. Clearly mark the part or all of the information that you claim to be CBI. For CBI information on a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket.

Information or documents declared as CBI will not be disclosed except in accordance with procedures set forth in 40 CFR part 2.

2. Tips for Preparing Your Comments. When submitting comments, remember to:

a. Identify the rulemaking by docket number and other identifying information (subject heading, Federal Register date and page number).

b. Follow directions—The Agency may ask you to respond to specific questions or organize comments by referencing a Code of Federal Regulations (CFR) part or section number.

c. Explain why you agree or disagree; suggest alternatives and substitute language for your requested changes.

d. Describe any assumptions and provide any technical information and/or data that you used.

e. If you estimate potential costs or burdens, explain how you arrived at your estimate in sufficient detail to allow for it to be reproduced.

f. Provide specific examples to illustrate your concerns, and suggest alternatives.

g. Make sure to submit your comments by the comment period deadline identified.

II. Why Is EPA Issuing This NODA and What Are the Issues on Which EPA Is Soliciting Comment?

In August 2006, pursuant to CAA sections 112(d)(6) and (f)(2), EPA issued the proposed rule entitled, “National Emission Standards for Hazardous Air Pollutants—Halogenated Solvent Cleaning” (Docket ID No. EPA-HQ-OAR-2002-0009) (the “proposed rule”). See 71 FR 47670 (Aug. 17, 2006). In developing the proposed rule, EPA used the best available data that it had before it at the time. Detailed background information describing the proposed rulemaking may be found in the proposed rule and the docket in support of that rule.

During the public comment period, EPA received certain new data and information concerning the unique nature and size of the degreasing machines used by the following facilities: narrow tubing manufacturing facilities, facilities that manufacture specialized products requiring continuous web cleaning,¹ aerospace manufacturing and maintenance facilities, large military vehicle maintenance operations, and facilities that use multiple degreasing machines. The new data and information at issue in this NODA are directly relevant to the alternative proposed standards described in the proposed rule. To better inform our decision making, we are identifying the new data and information received from the above-noted facilities and soliciting comment on the following three discrete issues: (1) The ability of the above-noted facilities meeting the proposed facility-wide emission limits, (2) the cost impacts associated with the above-noted facilities implementing the proposed facility-wide emission limits, and (3) the time frame needed for the above-noted facilities to comply with the proposed facility-wide emission limits. The EPA will consider only comments, data or information related to these three issues. We do not intend to respond to comments addressing any other aspect of the proposed rule.

¹ On December 2, 1994, EPA promulgated HSC NESHAP that established both control device and work practice requirements for batch and in-line solvent cleaning machines (59 FR 61801). Continuous web cleaning machines are a subset of in-line cleaning machines. Subsequently, we clarified the applicability of certain compliance options under the HSC NESHAP, and also specified alternative compliance requirements for continuous web cleaning machines (64 FR 67793, 67794-67796 (December 3, 1999)).

All the comments, information and data submitted by commenters and discussed in this NODA are available in the Air Docket, National Emission Standards for Hazardous Air Pollutants—Halogenated Solvent Cleaning, Environmental Protection Agency, Docket ID No. EPA-HQ-OAR-2002-0009.

III. Proposed Emissions Limit Options

A. What Are the Proposed Emissions Limits?

The proposed rule presented an emissions limit approach whereby emissions of the hazardous air pollutants (HAP), perchloroethylene (PCE), trichloroethylene (TCE), and methylene chloride (MC) from facilities operating halogenated solvent cleaning machines are capped at levels determined to protect public health with an ample margin of safety and to prevent adverse environmental effects.²

² EPA's proposed determination pursuant to CAA section 112(d)(6) is set forth in the proposed rule at 71 FR 47684-47685.

Specifically, under the proposed rule, the owner or operator of each affected facility would ensure that the facility-wide PCE, TCE, and MC emissions from all halogenated solvent cleaning machines subject to the MACT standards are less than or equal to specific solvent emissions limits, as identified in the proposed rule. The proposed rule identified six different regulatory alternatives in this regard, including the two co-proposed options of 25,000 kilograms per year (kg/yr) and 40,000 kg/yr of MC equivalent.

We believe that there are multiple ways in which facilities can comply with the proposed rule, and while we analyzed and identified in the proposed rule some of the methods that may effectively reduce emissions, we neither proposed specific compliance options nor did we limit the options by which facilities could comply. Under the proposed revised standards, the HSC MACT requirements for all applicable new and existing sources would remain applicable. See 71 FR 47675-47676 and 47683-47684 for a complete discussion of the proposed facility-wide solvent emission limit and compliance options. Nothing in the proposed rule precludes a facility from using a compliance option not identified in the proposal. Sources may implement compliance options identified in the MACT or whatever compliance options they choose regardless of whether it is mentioned in the August 2006 proposal or the MACT.

B. What Is the New Information or Data That EPA Is Making Available for Review and Comment?

• Comments and data provided by the Halogenated Solvents Industry Alliance (HSIA) concerning the technical infeasibility of using solvent switching, retrofitting, and installation of vacuum-to-vacuum machines on applications in the narrow tubing and aerospace industries, facilities that use continuous web cleaners and large military vehicle maintenance facilities. HSIA states that these degreasing applications use large machines and the current low-emitting cleaning machines are technically infeasible because these industries degrease parts of uncommon sizes and shapes that these machines have not been commonly designed to handle. The commenter provides instances where particular companies have installed low-emitting equipment yet were unable to meet the 1994 HSC NESHAP. The commenter stated that the EPA should revise its emission reduction estimate for vacuum cleaning machines and have this new estimate confirmed by companies that have recently installed vacuum-to-vacuum machines.

• Comments and data provided by the American Safety Razor Company, concerning the technical infeasibility of solvent switching, retrofitting and vacuum-to-vacuum machines for facilities using continuous web cleaning machines because the cleaning process is so unique and different from the other forms of degreasing, batch cold and vapor cleaning. The commenter states that EPA incorrectly concluded that solvent switching will work for continuous web cleaners because, according to the commenter, a majority of alternative HAP and non-HAP solvents are incompatible with its products. Without any supporting data, the commenter also states that EPA's proposal significantly overstates the potential for emission reductions in the source category.

• Comments and data provided by Delta Air Lines suggesting that EPA should establish limits on each degreaser in terms of either kilograms per degreaser or kilograms per square meter of solvent/air interface area. The commenter indicates that low-emitting technology such as the vacuum-to-vacuum machines are not feasible when considering the unique shape and size of the parts they clean because of shape, size, metallurgy, corrosion resistance and that many aerospace maintenance procedures are approved by the Federal Aviation Administration. The commenter further suggests that EPA create emissions limits for an aerospace degreasing subcategory.

• Comments and data provided by Spirit Aerosystems on compliance options for the proposed facility-wide emissions limits. The commenter compels EPA to consider regulatory approaches other than the single facility-wide emissions limit that do not result in a disproportionate and unfair regulatory burden on large facilities with unique, complex and stringent production requirements related to materials cleaning and for whom few compliance options are available. In simple terms, the commenter states that reducing emissions to the emission limit, when compared to smaller facilities, the aerospace facilities faces greater liability and burden than most other degreasing facilities.

• Comments provided by Eastman Kodak Company indicate their belief that facility-wide emission limits leave source owners only two compliance options: (1) establish internal production restrictions or (2) install add-on capture and control equipment to insure operating flexibility.

• Comments and data provided by narrow tubing manufacturers, such as Salem Tubing, Superior Tubing, Plymouth Tubing, Accellent Endoscopy and Summerill Tubing, on the technical infeasibility of achieving the degree of emissions reduction projected by EPA. The commenters contend that there may be no technology or degreasing method available to their industry that would allow them to reduce emissions further. The commenters state that switching to an alternative solvent could present a myriad of problems including incompatibility with materials being cleaned, solvent performance, and worker safety concerns, especially with MC. The commenters also explain that many facilities have retrofitted their equipment and that emission reduction option would not be available to them. They also state that vacuum-to-vacuum cleaning machines have not been engineered or built to the large size necessary to effectively degrease specialized tubing such as 40-foot lengths of tubing and large coils. The commenters provided data to support these comments.

C. What Additional Supporting Data or Documentation Do I Need To Provide With My Comments?

The EPA is soliciting comment on the new data provided. EPA also seeks additional data and information concerning the specific comments described above that relate to the three issues identified at the outset of this NODA. In addition, with respect to narrow tubing manufacturing facilities, aerospace manufacturing and maintenance facilities, large military vehicle maintenance operations, facilities that use multiple degreaser machines, and facilities that use continuous web cleaners, EPA seeks additional data and information from these facilities that includes, but is not limited to, any technology or other methods or approaches that may achieve the proposed emission limits. The EPA is also requesting that commenters provide detailed comments if their responses indicate that there are no technologies or other methods available or feasible. Commenters may also provide details of any barriers that may exist to prevent lowering of emission levels. The EPA further requests that commenters provide data on the operational life expectancy of HSC machines, and the difference in floor space needed to install low-emitting machines.

IV. EPA's Proposed Cost Assessment

A. What Are the Estimated Compliance Costs?

Pursuant to the CAA section 112(f), EPA evaluated the remaining risk to public health and the environment following implementation of the technology-based rule for HSC machines. The EPA proposed more stringent standards in order to protect the public health with an ample margin of safety and to prevent adverse environmental impacts. In the second step of the ample margin of safety analysis, EPA considered the issue of costs consistent with section 112(f)(2).

EPA analyzed and presented the nationwide cost impacts and emissions reductions associated with each of the six regulatory alternatives identified in the proposal. Two of those alternatives include the 25,000 kilograms per year (kg/yr) and 40,000 kg/yr of MC equivalent alternatives noted above. See 71 FR 47681-47683 for a complete discussion of our estimated costs to reduce HAP emissions from HSC machines.

B. What Is the New Information EPA Is Making Available for Review and Comment?

• Comments and cost information for design and installation of new vacuum-to-vacuum machines was provided by the narrow tube manufacturers. They also included comments and data that indicates that EPA's capital cost basis is approximately fifteen times below industry projected costs range. They also indicate that EPA failed to factor in the costs associated with facilities expanding current building to accommodate vacuum-to-vacuum machines that may require a larger floor space.

• Comments and data provided by an aerospace industry association indicates that EPA understated compliance costs for the aerospace industry because any action by the facility to switch solvents must go through a rigorous approval process to meet the requirements of the original equipment manufacturer and the Federal Aviation Administration (FAA) to ensure that safety and quality criteria are met. This process is not a common process for other HSC facilities. The commenter also reports that there are few manufacturers of vacuum-to-vacuum degreasing machines and they are not aware if the technology can effectively degrease parts of specific types and sizes. The commenter reported that similar facilities that installed the technology incurred costs of over $1 million with new annualized costs of approximately $80,000 per year.

• Comments and data provided by the HSIA indicating that EPA failed to meet the duty to reasonably consider the economic effects of the rulemaking on small businesses. Comments and data provided by HSIA indicate that EPA's costs are understated because, in actuality, fewer facilities than estimated by EPA can comply with the rule by switching solvent, and more facilities would need to use a more costly method to comply with the rule. The HSIA asserts that, even assuming that emission control technology and/or low-emitting cleaning machines such as vacuum-to-vacuum machines can be adapted to the very specific degreasing requirements for the aerospace and the narrow tubing industries, the cost of installing vacuum-to-vacuum machines at facilities with very large degreasing operations would be cost prohibitive. HSIA provides data supporting this assertion.

• Comments and data provided by Plymouth Tubing indicate that most companies using larger machines are able to purchase solvent at significant savings, per unit cost. The commenter contends that EPA solvent cost was estimated at $1.05 per pound. That cost is significantly higher that the $0.71 per pound of fresh unused TCE the commenter purchases. The commenter indicates that the cost savings EPA anticipated with reduced solvent use is significantly overstated.

C. What Additional Supporting Data or Documentation Do I Need To Provide With My Comments?

EPA is soliciting comment on the new data provided. EPA also seeks additional data and information concerning the specific comments described above that relate to the three issues identified at the outset of this NODA. In addition, as for the narrow tubing manufacturing facilities, aerospace manufacturing and maintenance facilities, large military vehicle maintenance operations, facilities that use multiple degreaser machines, and facilities that use continuous web cleaners, EPA specifically seeks data and information from these facilities including, but not limited to, information on the costs (capital and operating) to achieve the proposed facility-wide emission limits.

EPA also requests that commenters provide specific cost data on the cleaning machines used by the above-named specific industries that may include, but is not limited to, the costs of machine replacement with low emitting machine technology, the costs associated with applying emission capture and control technology, the costs of operating and maintaining such systems, the costs of installing emission control systems or low-emitting machines, the costs of clean unused solvent, and the cost of switching solvent to a non-HAP solvent or to a solvent with less health effects.

EPA is also requesting commenters that identify new technology, methods or processes for compliance other than those EPA analyzed in the proposed rule to provide the associated costs of such new technology, methods or processes. Commenters may provide comments on barriers to implementing new technology, methods or processes.

Commenters may also provide comments with supporting data on any production rate increases or losses that may occur at the types of facilities discussed in this notice when complying with the proposed emission limits.

V. EPA's Proposed Compliance Schedule

A. What Is the Proposed Compliance Schedule?

In our proposed rule, we proposed a compliance deadline of 2 years for existing sources of halogenated cleaning machines to comply with the proposed emissions limits. We also indicated that the CAA section 112(f)(4)(B) states that EPA may grant a waiver of up to an additional 2 years after the effective date of a standard if more time is needed to install controls or implement steps to assure that the health of persons will be protected from imminent endangerment. We said we believed the proposed compliance deadline was both reasonable and realistic for any affected facility that has to plan their control strategy, purchase and install the control device(s), and bring the control device online. See 71 FR 47684 for a complete discussion of the proposed compliance deadline.

B. What Is the New Information EPA Is Making Available for Review and Comment?

• Comments provided by Aerospace Industry Association and an airline, indicating that changing solvents involves a rigorous approval process to meet requirements of the Federal Aviation Administration (FAA) and of the original equipment manufacturer (OEM). The commenter indicates that such an approval process takes considerable time and requires many steps.

• Comments provided by HSIA indicated that a compliance period of as much as 10 years would be required for industry to complete the multi-step process of upgrading degreasing operations. The commenter cites installations of new equipment at an existing facility may require the following: (1) Extended time to test performance of untried degreasing technologies for their particular application, (2) additional or redesigned floor space, (3) customer approval of new degreasing techniques and machines, (4) amending air permits; (5) amending government agency directives on cleaning protocols. HSIA did not submit data to support this comment.

• Comments and data provided by the American Safety Razor Company indicated that EPA should remain consistent with the proposed HON rule and provide affected facilities three (3) years after the effective date of the promulgated standard.

• Comments and data provided by Salem Tubing Company on the compliance period for sources of existing HSC machines and constructed or reconstructed HSC machines after August 17, 2006. The facility indicated that vacuum-to-vacuum cleaning is not a feasible option for the narrow tube manufacturing industry because of the large size of their degreasing machines and the fact that the vacuum-to-vacuum technology is not currently available in the machines sizes required. The commenter contends that in order to design, test and implement such a system would take much longer than the proposed compliance period.

• Comments provided by the HSIA indicated that the compliance schedule should be amended to (1) require new facilities constructed after the date of promulgation to be in compliance upon startup; (2) consider new facilities constructed prior to the date of promulgation to be existing facilities; (3) allow existing HSC facilities that installed new equipment after the date of proposal, but prior to the date of promulgation, 10 years to come into compliance with any new requirements consistent with CAA section 112(i)(7), and (4) allow the maximum amount of time possible for existing HSC facilities to come into compliance.

C. What Additional Supporting Data or Documentation Do I Need To Provide With My Comments?

EPA is soliciting comment on the new information provided described above that relates to the issues identified at the outset of this NODA. In addition, as for the narrow tubing manufacturing facilities, aerospace manufacturing and maintenance facilities, large military vehicle maintenance operations, facilities that use multiple degreaser machines, and facilities that use continuous web cleaners, EPA specifically seeks data and information from these facilities including, but not limited to, information on the time to design and install new HSC machines, the lifespan of the typical HSC machine used in the facilities of interest (listed above), the time required to seek additional permits from State and local air permitting agencies, the time required for FAA and OEM approvals to vary or change degreasing cleaning procedures, whether a 2-year or a 3-year compliance period is appropriate, or data on how much time it would take to comply with the proposed requirements.

List of Subjects in 40 CFR Part 63

Environmental protection, Administrative practice and procedure, Air pollution control, Hazardous substances, Intergovernmental relations, Reporting and recordkeeping requirements.

Dated: December 8, 2006.
Stephen D. Page,
Director, Office of Air Quality Planning and Standards.

[FR Doc. E6-21296 Filed 12-13-06; 8:45 am]

BILLING CODE 6560-50-P